CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled Financial Management Survey, OMB No. 3045-0102, for review in accordance with the Paperwork Reduction Act of 1995, Public Law 104-13, (44 U.S.C. Chapter 35). Copies of this ICR, with applicable supporting documentation, may be obtained by calling the Corporation for National and Community Service, Douglas Godesky, at 202-606-6967 or email to dgodesky@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on April 16, 2014. This comment period ended June 16, 2014. No public comments were received from this Notice.

Description: CNCS is seeking approval of its Financial Management Survey. The Financial Management Survey collects information from new grantees about their financial management and internal control systems so that CNCS can determine if appropriate systems are in place to manage federal grant funds or, if not, to identify training and technical assistance a new grantee may need to develop and implement appropriate systems. CNCS requires new grantees which have never before received CNCS funds to complete the form. Completion of this survey is required as an element of CNCS's risk assessment process, but is independent from the competitive grant process.

Type of Review: Renewal.

Agency: Corporation for National and Community Service.

Title: Financial Management Survey Form.

OMB Number: 3045-0102.

Agency Number: None.

Affected Public: Organizations that are first time grant recipients to CNCS.

Total Respondents: 20 annually.

Frequency: Once.

Average Time per Response: Averages 1.75 hours.

Estimated Total Burden Hours: 35 hours.

Total Burden Cost (capital/startup): None.

Total Burden Cost (operating/maintenance): None.

Dated: July 31, 2014.
Douglas J. Godesky,
Acting Director, Office of Grants Management.

[FR Doc. 2014-18522 Filed 8-4-14; 8:45 am]

BILLING CODE 6050-28-P